DEPARTMENT OF HOMELAND SECURITY

Federal Emergency Management Agency

[Docket ID FEMA-2018-0002; Internal Agency Docket No. FEMA-B-1867]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Arizona:
Pima | City of Tucson (18-09-1087P) | The Honorable Jonathan Rothschild, Mayor, City of Tucson, 255 West Alameda Street, Tucson, AZ 85701 | Planning and Development Services, 201 North Stone Avenue, 1st Floor, Tucson, AZ 85701 | https://msc.fema.gov/portal/advanceSearch | Feb. 22, 2019 | 040076
Pima | Unincorporated Areas of Pima County (18-09-1087P) | The Honorable Richard Elias, Chairman, Board of Supervisors, Pima County, 130 West Congress Street, 11th Floor, Tucson, AZ 85701 | Pima County Flood Control District, 201 North Stone Avenue, 9th Floor, Tucson, AZ 85701 | https://msc.fema.gov/portal/advanceSearch | Feb. 22, 2019 | 040073
California:
Fresno | City of Clovis (18-09-0724P) | The Honorable Bob Whalen, Mayor, City of Clovis, 1033 5th Street, Clovis, CA 93612 | Planning and Development, 1033 5th Street, Clovis, CA 93612 | https://msc.fema.gov/portal/advanceSearch | Feb. 21, 2019 | 060044
Fresno | Unincorporated Areas of Fresno County (18-09-0724P) | The Honorable Sal Quintero, Chairman, Board of Supervisors, Fresno County, 2281 Tulare Street, Room 301, Fresno, CA 93721 | Fresno County, Department of Public Works & Planning, 2220 Tulare Street, 6th Floor, Fresno, CA 93721 | https://msc.fema.gov/portal/advanceSearch | Feb. 21, 2019 | 065029
Idaho: Bannock | City of Pocatello (18-10-0482P) | The Honorable Brian Blad, Mayor, City of Pocatello, P.O. Box 4169, Pocatello, ID 83205 | City Hall, 911 North 7th Avenue, Pocatello, ID 83205 | https://msc.fema.gov/portal/advanceSearch | Feb. 15, 2019 | 160012
Illinois:
Tazewell | Unincorporated Areas of Tazewell County, (18-05-4174P) | The Honorable David Zimmerman, Chairman, Tazewell County Board, McKenzie Building, 11 South 4th Street, Suite 432, Pekin, IL 61554 | Tazewell County McKenzie Building-4th Floor, 11 South 4th Street, Pekin, IL 61554 | https://msc.fema.gov/portal/advanceSearch | Feb. 14, 2019 | 170815
Tazewell | Village of Morton (18-05-4174P) | The Honorable Jeff Kaufman, Village President, Village of Morton, P.O. Box 28, Morton, IL 61550 | Village Hall, 120 North Main Street, Morton, IL 61550 | https://msc.fema.gov/portal/advanceSearch | Feb 14, 2019 | 170652
Minnesota:
McLeod | City of Glencoe (18-05-2850P) | The Honorable Randy Wilson, Mayor, City of Glencoe, Administration Building, 1107 11th Street East, Glencoe, MN 55336 | Administration Building, 1107 11th Street East, Glencoe, MN 55336 | https://msc.fema.gov/portal/advanceSearch | Jan. 24, 2019 | 270263
McLeod | Unincorporated Areas of McLeod County Minnesota (18-05-2850P) | Mr. Paul Wright, County Commissioner, McLeod County, McLeod County Courthouse, 830 11th Street East, Glencoe, MN 55336 | McLeod County Courthouse, 830 11th Street East, Glencoe, MN 55336 | https://msc.fema.gov/portal/advanceSearch | Jan. 24, 2019 | 270616
Nebraska:
Colfax | City of Schuyler (17-07-2227P) | The Honorable David Reinecke, Mayor, City of Schuyler, 1103 B Street, Schuyler, NE 68661 | Municipal Building, 1103 B Street, Schuyler, NE 68661 | https://msc.fema.gov/portal/advanceSearch | Feb. 15, 2019 | 310046
Colfax | Unincorporated Areas of Colfax County (17-07-2227P) | Mr. Gil Wigington, Chairman, Colfax County, Board of Commissioners, 411 East 11th Street, Schuyler, NE 68661 | Colfax County Courthouse, 411 East 11th Street, Schuyler, NE 68661 | https://msc.fema.gov/portal/advanceSearch | Feb. 15, 2019 | 310426
Ohio: Hamilton | Village of Amberley (18-05-2008P) | The Honorable Tom Muething, Mayor, Village of Amberley, 7149 Ridge Road, Cincinnati, OH 45237 | Municipal Building, 7149 Ridge Road, Cincinnati, OH 45237 | https://msc.fema.gov/portal/advanceSearch | Feb. 15, 2019 | 390206
Oregon: Deschutes | Unincorporated Areas of Deschutes County (18-10-0743P) | Mr. Alan Unger, Commissioner, Deschutes County, 1300 Northwest Wall Street, Bend, OR 97708 | Deschutes County Board of Commissioners, 1164 Northwest Bond Street, Bend, OR 99701 | https://msc.fema.gov/portal/advanceSearch | Feb. 7, 2019 | 410055

[FR Doc. 2018-26173 Filed 11-30-18; 8:45 am]

BILLING CODE 9110-12-P